DEPARTMENT OF TRANSPORTATION

National Highway Traffic Safety Administration

[Docket No. NHTSA-2012-0100]

National Emergency Medical Services Advisory Council (NEMSAC); Notice of Federal Advisory Committee Meeting

AGENCY: National Highway Traffic Safety Administration (NHTSA), U.S. Department of Transportation (DOT).

ACTION: Meeting Notice—National Emergency Medical Services Advisory Council.

SUMMARY: The NHTSA announces a meeting of NEMSAC to be held in the Metropolitan Washington, DC, area. This notice announces the date, time, and location of the meeting, which will be open to the public. The purpose of NEMSAC is to provide a nationally recognized council of emergency medical services representatives and consumers to provide advice and recommendations regarding Emergency Medical Services (EMS) to DOT's NHTSA and to the Federal Interagency Committee on EMS (FICEMS).

DATES: The meeting will be held on August 29, 2012, from 9 a.m. to 5:30 p.m. EDT, and on August 30, 2012, from 8 a.m. to 12 p.m. EDT. A public comment period will take place on August 29, 2012 between 4:30 p.m. and 5 p.m. EDT. Written comments must be received by August 24, 2012.

ADDRESSES: The meeting will be held in the Archivists Room of the National Archives Building at 700 Pennsylvania Ave. NW., Washington, DC 20408.

FOR FURTHER INFORMATION CONTACT: Drew Dawson, Director, U.S. Department of Transportation, Office of Emergency Medical Services, 1200 New Jersey Avenue SE., NTI-140, Washington, DC 20590, telephone number 202-366-9966; email Drew.Dawson@dot.gov.

SUPPLEMENTARY INFORMATION: Notice of this meeting is given under the Federal Advisory Committee Act, Public Law 92-463, as amended (5 U.S.C. App.). The NEMSAC will meet on Wednesday and Thursday, August 29-30, 2012, in the Archivists Room of the National Archives Building at 700 Pennsylvania Avenue NW., Washington, DC 20408.

Tentative Agenda of National EMS Advisory Council Meeting, August 29-30, 2012

The tentative agenda includes the following:

Wednesday, August 29, 2012 (9 a.m. to 5:30 p.m. EDT)

(1) Opening Remarks.

(2) Briefing on Ethics and the Federal Advisory Committee Act.

(3) Discussion on the Purpose, Function, Bylaws and Code of Conduct of NEMSAC.

(4) Overview of NHTSA, the Office of EMS, FICEMS and Federal EMS Programming.

(5) Update on Programs from the NHTSA Office of EMS and FICEMS Agencies.

(6) Review of Previous NEMSAC Recommendations.

(7) Public Comment Period (4:30 p.m. to 5 p.m. EDT).

(8) Business of the Council.

Thursday, August 30, 2012 (8 a.m. to 12 p.m. EDT)

(1) Discussion of New and Emerging Issues.

(2) Discussion of NEMSAC Committee Structure.

(3) Unfinished Business/Continued Discussion from Previous Day.

(4) Next Steps and Adjourn.

Required Registration Information: This meeting will be open to the public; however, pre-registration is required to comply with security procedures. Picture I.D. must be provided to enter the National Archives Building and it is suggested that visitors arrive 20-30 minutes early in order to facilitate entry. Please be aware that visitors to the National Archives are subject to search when entering and exiting the building and must pass through a magnetometer. Weapons of any kind are strictly forbidden in the building unless authorized through the performance of the official duties of your employment (i.e. law enforcement officer).

There will not be a teleconference option for this meeting. Individuals wishing to attend must register online at www.regonline.com/NEMSAC_August2012 no later than August 24, 2012. Attendees should enter the Archives Building at the Research Entrance on Pennsylvania Avenue.

Public Comment: Members of the public who wish to make comments on Wednesday, August 29, 2012, between 4:30 p.m. and 5 p.m. EDT are requested to register in advance. In order to allow as many people as possible to speak, speakers are requested to limit their remarks to 5 minutes. Written comments from members of the public will be distributed to NEMSAC members at the meeting and should reach the NHTSA Office of EMS by August 24, 2012. Written comments may be submitted by either one of the following methods: (1) You may submit comments by email: nemsac@dot.gov or (2) you may submit comments by fax: (202) 366-7149.

A final agenda as well as meeting materials will be available to the public online through www.ems.gov prior to August 29, 2012.

Issued on: August 1, 2012.
Jeffrey P. Michael,
Associate Administrator for Research and Program Development.

[FR Doc. 2012-19110 Filed 8-3-12; 8:45 am]

BILLING CODE 4910-59-P